DEPARTMENT OF AGRICULTURE

Forest Service

Olympic Peninsula Resource Advisory Committee

AGENCY: Forest Service, USDA.

ACTION: Notice of meeting.

SUMMARY: The Olympic Peninsula Resource Advisory Committee will meet in Sequim, Washington. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to review 2012 project proposals and provide the Designated Federal Official with a list of recommended projects to be funded.

DATES: The meeting will be held on June 9, 2011, from 9 a.m. until 5 p.m.

ADDRESSES: The meeting will be held at the Red Cedar Hall at the Jamestown S'Klallam Tribal Community Center, 1033 Old Blyn Highway, Sequim, Washington 98382. Written comments may be submitted as described under SUPPLEMENTARY INFORMATION.

All comments, including names and addresses when provided, are placed in the record and are available for public inspection and copying. The public may inspect comments received at 1835 Black Lake Blvd., SW., Olympia, WA 98512. Please call ahead to 360-956-2274 to facilitate entry into the building to view comments.

FOR FURTHER INFORMATION CONTACT: Donna Nemeth, Public Affairs Officer, Olympic National Forest, 360-956-2274, dnemeth@fs.fed.us.

Individuals who use telecommunication devices for the deaf (TDD) may call the Federal Information Relay Service (FIRS) at 1-800-877-8339 between 8 a.m. and 8 p.m., Eastern Standard Time, Monday through Friday. Requests for reasonable accomodation for access to the facility or procedings may be made by contacting the person listed in For Further Information.

SUPPLEMENTARY INFORMATION: The following business will be conducted: Committee members will review 2012 project proposals and compile a list of recommended projects to be funded for the Designated Federal Official to approve. Anyone who would like to bring related matters to the attention of the committee may file written statements with the committee staff before or after the meeting. The agenda will include time for people to make oral statements of three minutes or less. Individuals wishing to make an oral statement should request in writing by June 2, 2011, to be scheduled on the agenda. Written comments and requests for time for oral comments must be sent to Donna Nemeth, Olympic National Forest, 1835 Black Lake Blvd., SW., Olympia, WA 98512, or by e-mail to dnemeth@fs.fed.us, or via facsimile to 360-956-2330.

Dated: May 3, 2011.
Margaret Petersen,
Acting Forest Supervisor, Olympic National Forest.

[FR Doc. 2011-11342 Filed 5-9-11; 8:45 am]

BILLING CODE 3410-11-P